DEPARTMENT OF THE INTERIOR

Bureau of Land Management

[BLM_CO_FRN_MO4500182759]

Notice of Joint and Individual Colorado Resource Advisory Council Meetings

AGENCY: Bureau of Land Management, Interior.

ACTION: Notice of public meetings.

SUMMARY: In accordance with the Federal Land Policy and Management Act of 1976 and the Federal Advisory Committee Act of 1972, the U.S. Department of the Interior, Bureau of Land Management (BLM) Colorado's Northwest Resource Advisory Council (RAC), Southwest RAC, and Rocky Mountain RAC will meet as indicated below.

DATES: The Northwest, Southwest, and Rocky Mountain RACs will participate in a joint meeting on April 2, 2025, from 8:30 a.m. to 4:30 p.m. mountain time (MT). The Northwest and Southwest RACs will participate in a joint meeting from 9 a.m. to noon MT on April 3, 2025. The Rocky Mountain RAC will also meet April 3, 2025, from 9 a.m. to 2:45 p.m. MT. The meetings will be held in-person with a virtual participation option available. All meeting are open to the public.

ADDRESSES: The April 2 and April 3, 2025, meetings will be held at the Morgridge Commons, 815 Cooper Avenue, Glenwood Springs, Colorado 81601.

FOR FURTHER INFORMATION CONTACT: Northwest RAC—Jim Michels, BLM Northwest District Office, 455 Emerson St. Craig, CO 81625; jmichels@blm.gov; (970) 749-7399. Southwest RAC-D. Maggie Magee, BLM Southwest District Office, 2465 S Townsend Ave., Montrose, CO 81401; dmagee@blm.gov; (970) 318-9495. Rocky Mountain RAC—Levi Spellman, BLM Rocky Mountain District Office, 3028 E Main St., Canon City, CO 71212; lspellman@blm.gov; (719) 269-8553. For information about the joint April 2, 2025, meeting, contact Kirby-Lynn Shedlowski, BLM Colorado State Office; kshedlowski@blm.gov; (303) 239-3671.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Colorado RACs advise the Secretary of the Interior, through the BLM, on a variety of public land issues in Colorado. Agenda items for the April 2, 2025, joint RAC meetings include presentations on range management and recreation management. Agenda items for the Northwest and Southwest April 3, 2025, joint meeting include an update on the Escalante Ranch acquisition. Agenda items for the Rocky Mountain April 3, 2025, meeting include a district update, and discussions on recreation, land use planning, and energy and minerals management. A public comment period will be offered during each meeting. Depending on the number of people who wish to comment during the public comment period, individual comments may be limited. Written comments may be submitted in advance of the RAC meetings via email to the individuals listed in the FOR FURTHER INFORMATION CONTACT section of this notice. Please include “RAC Comment” in your submission. Before including your address, phone number, email address, or other personal identifying information in your comment, you should be aware that your entire comment, including your personal identifying information, may be made publicly available at any time. While you can ask us in your comment to withhold your personal identifying information from public review, we cannot guarantee that we will be able to do so.

Final agendas and virtual participation instructions will be available online two weeks prior to the meetings at https://www.blm.gov/get-involved/resource-advisory-council/near-you/colorado.

Requests for Accommodations: Please make requests in advance for sign language interpreter services, assistive listening devices, language translation services, or other reasonable accommodations. We ask that you contact the person listed in the FOR FURTHER INFORMATION CONTACT section of this notice at least 14 business days prior to the meeting to give the Department of the Interior sufficient time to process your request. All reasonable accommodation requests are managed on a case-by-case basis.

Summary minutes for the RAC meetings will be made available within 90 days following the meetings online at https://www.blm.gov/get-involved/resource-advisory-council/near-you/colorado.

(Authority: 43 CFR 1784.4-2)

Douglas J. Vilsack,
BLM Colorado State Director.

[FR Doc. 2024-29439 Filed 12-17-24; 8:45 am]

BILLING CODE 4331-16-P